DEPARTMENT OF HEALTH AND HUMAN SERVICES

Agency for Healthcare Research and Quality

Agency Information Collection Activities: Proposed Collection; Comment Request

AGENCY: Agency for Healthcare Research and Quality, HHS.

ACTION: Notice.

SUMMARY: This notice announces the intention of the Agency for Healthcare Research and Quality (AHRQ) to request that the Office of Management and Budget (OMB) approve the proposed information collection project: “Embedded Research in Care Delivery Systems.”

DATES: Comments on this notice must be received by 60 days after date of publication.

ADDRESSES: Written comments should be submitted to: Doris Lefkowitz, Reports Clearance Officer, AHRQ, by email at doris.lefkowitz@ahrq.hhs.gov.

Copies of the proposed collection plans, data collection instruments, and specific details on the estimated burden can be obtained from the AHRQ Reports Clearance Officer.

FOR FURTHER INFORMATION CONTACT: Doris Lefkowitz, AHRQ Reports Clearance Officer, (301) 427-1477, or by email at doris.lefkowitz@ahrq.hhs.gov.

SUPPLEMENTARY INFORMATION:

Proposed Project

“Embedded Research in Care Delivery Systems”

Embedded researchers contribute to learning health systems by collaborating with delivery system stakeholders to produce innovations and evidence that can be rapidly implemented to improve the outcomes of individuals and populations and health system performance.

Research is defined in this proposed project as embedded when it is conducted by an investigator who is employed or closely affiliated with the care delivery system and when the research project at least partially addresses operational concerns of the system (e.g., ways to improve care quality, value, or other aspects of system performance, such as patient and staff satisfaction).

AHRQ is developing tools and findings to support learning health systems and embedded research, and is funding training of researchers to conduct embedded research.

The proposed project has the following goals:

• Select health care delivery systems that currently apply diverse and distinctive strategies for embedded research.

• Conduct and report on qualitative case studies documenting how embedded research is prioritized, funded, managed, conducted, and used in these systems.

• Specify several promising strategies for organizing and conducting embedded research.

• Provide summaries of study findings that will stimulate consideration of current and future strategies for embedded research among funders, trainers, and delivery system leaders.

The proposed project does not intend to create a comprehensive inventory of current practice in embedded research or to provide a representative sample of embedded research activities. Instead, the illustrative case studies will stimulate discussion at AHRQ and elsewhere about how to prepare researchers to conduct embedded research. Additionally, the case studies may provide insights to health research funding agencies about ways that funding criteria can influence the conduct of embedded research. The case studies may also provide health care leaders with illustrations of some of the potential benefits of supporting embedded research and some of the challenges of alternative approaches to incorporating such research into care delivery systems. AHRQ is conducting this study pursuant to the agency's statutory authority to conduct and support research on healthcare and on systems for the delivery of such care. 42 U.S.C. 299a(a).

Method of Collection

Based on an environmental scan, six to eight care delivery systems will be selected that employ people engaged in embedded research; have engaged in this type of research for at least two fiscal years; and take a distinctive approach to it or are recognized as a leader in this field. At least one system will be selected that has a mission and a commitment to serving AHRQ's priority populations. The investigators will conduct phone interviews with up to eight people in each of the selected systems. The interview subjects in each delivery system will include at least one occupant of each of the following roles: Executive-level manager; person exercising oversight over embedded research activities; person from a service line or care sector in which several embedded research projects have been carried out; lead investigator on one or more embedded research projects. Interviews will be coded and case study summaries created for each system. The case study summaries will describe promising embedded research strategies, potential benefits and challenges of this type of research, and lessons learned about addressing challenges. The findings will be shared with AHRQ leadership, other health system leaders and funders of embedded research projects, and with the health services research community.

Estimated Annual Respondent Burden

Exhibit 1 is based on the following assumptions: No more than 8 subjects will participate in the main round of interviews in each system (site). There will be a maximum of 8 sites. If supplementary information is needed on selected projects, no more than 3 supplementary interviews will be conducted. Each supplementary interview will include 3-4 participants, with a total of no more than 10 participants in the whole set of supplementary interviews.

Exhibit 1—Estimated Annualized Burden Hours
Collection activity-interviews | Number of respondents | Number of responses per respondent | Hours per response | Total burden hours
Interviews with executive-level subjects | 10 | 1 | 1 | 10
Interviews with physicians | 22 | 1 | 1 | 22
Interviews with researchers and other operations staff | 42 | 1 | 1 | 42
Total |  |  |  | 74

Exhibit 2—Estimated Annualized Cost Burden
Interview participants | Number of respondents | Total burden hours | Average hourly wage rate * | Total cost burden
Executive level (code 11-1011) | 10 | 10 | $96.22 | $962.20
Physicians (code 29-1060) | 22 | 22 | 101.43 | 2,231.46
Researchers and other operations staff (based on Operations Research Analysts code 15-2031) | 42 | 42 | 42.48 | 1,784.16
Total |  |  |  | 4,977.82
* National Compensation Survey: Occupational wages in the United States May 2018 “U.S. Department of Labor, Bureau of Labor Statistics.”

Request for Comments

In accordance with the Paperwork Reduction Act, 42 U.S.C. 3501-3521, comments on AHRQ's information collection are requested with regard to any of the following: (a) Whether the proposed collection of information is necessary for the proper performance of AHRQ health care research and health care information dissemination functions, including whether the information will have practical utility; (b) the accuracy of AHRQ's estimate of burden (including hours and costs) of the proposed collection(s) of information; (c) ways to enhance the quality, utility, and clarity of the information to be collected; and (d) ways to minimize the burden of the collection of information upon the respondents, including the use of automated collection techniques or other forms of information technology.

Comments submitted in response to this notice will be summarized and included in the Agency's subsequent request for OMB approval of the proposed information collection. All comments will become a matter of public record.

Dated: 24 July 2019.
Virginia L. Mackay-Smith,
Associate Director.

[FR Doc. 2019-16043 Filed 7-26-19; 8:45 am]

BILLING CODE 4160-90-P